DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for projects in the following locations: Minneapolis, MN; Coatesville, PA; City of St. Louis and University City, MO; and West Fitchburg, MA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before November 2, 2012.

FOR FURTHER INFORMATION CONTACT: Nancy-Ellen Zusman, Assistant Chief Counsel, Office of Chief Counsel, (312) 353-2577, or Terence Plaskon, Environmental Protection Specialist, Office of Human and Natural Environment, (202) 366-0442. FTA is located at 1200 New Jersey Avenue SE., Washington, DC 20590. Office hours are from 9:00 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: Minneapolis Interchange Project, Minneapolis, MN. Project sponsor: Metropolitan Council and Hennepin County Regional Railroad Authority. Project description: The project proposes to provide transportation infrastructure improvements near the existing Hiawatha Light Rail Transit Target Field Station, including elevated track, a second platform, storage track, construction of two connected pedestrian plaza areas, and reconfiguration of the 5th Street North/6th Avenue North intersection. Final agency actions: No use of Section 4(f) resources; Section 106 Programmatic Agreement; project-level air quality conformity; and Finding of No Significant Impact (FONSI), dated March 2012. Supporting documentation: Environmental Assessment, dated January 2012.

2. Project name and location: Coatesville Train Station Relocation, City of Coatesville, Chester County, PA. Project sponsor: Pennsylvania Department of Transportation (PennDOT). Project description: The project proposes to relocate the Coatesville Train Station approximately 450 feet east of the current location. It entails construction of the station platforms and access, provision of surface parking for Amtrak patrons, and improvements to Fleetwood Street. Final agency actions: No use of Section 4(f) resources; Section 106 finding of no adverse effect; project-level air quality conformity; and Finding of No Significant Impact (FONSI), dated March 2012. Supporting documentation: Environmental Assessment, dated December 2011.

3. Project name and location: St. Louis Loop Trolley, City of St. Louis and University City, MO. Project sponsor: East-West Gateway Council of Governments. Project description: The project is an approximately two-mile long, fixed-guideway trolley system in St. Louis and University City, MO. It will be constructed on Delmar Boulevard and DeBaliviere Avenue, and run from the History Museum in Forest Park in St. Louis to Trinity Avenue in University City, MO. Final agency actions: Determination of de minimis impact to one Section 4(f) resource and Section 106 finding of no adverse effect. Supporting documentation: Environmental Assessment Re-evaluation, dated March 2012.

4. Project name and location: Fitchburg Commuter Rail Extension Project/Wachusett Station and Westminster Layover Facility, West Fitchburg, MA. Project sponsor: Montachusett Area Regional Transit Authority (MART) and Massachusetts Bay Transportation Authority (MBTA). Project description: The project extends commuter rail service 4.5 miles from downtown Fitchburg to a new rail station in West Fitchburg, to be called Wachusett Station. A new layover facility adjacent to the end of the line is also part of the project. Final agency actions: No use of Section 4(f) resources; Section 106 finding of no historic properties affected; and Finding of No Significant Impact (FONSI), dated October 2010. Supporting documentation: Environmental Assessment, dated September 2010.

Issued on: May 2, 2012.
Lucy Garliauskas,
Associate Administrator for Planning and Environment, Washington, DC.

[FR Doc. 2012-10941 Filed 5-4-12; 8:45 am]

BILLING CODE P